DEPARTMENT OF ENERGY

Federal Energy Regulatory Commission

[Project No. 14201-001]

Bison Peak Pumped Storage, LLC; Notice of Preliminary Permit Application Accepted for Filing and Soliciting Comments, Motions To Intervene, and Competing Applications

On January 2, 2015, the Bison Peak Pumped Storage, LLC., filed an application for a successive preliminary permit, pursuant to section 4(f) of the Federal Power Act (FPA), proposing to study the feasibility of the Bison Peak Pumped Storage Project (Bison Peak Project or project) to be located in the Tehachapi Mountains south of Tehachapi, Kern County, California. The sole purpose of a preliminary permit, if issued, is to grant the permit holder priority to file a license application during the permit term. A preliminary permit does not authorize the permit holder to perform any land-disturbing activities or otherwise enter upon lands or waters owned by others without the owners' express permission.

The proposed project would be a closed-loop pumped storage project with an upper reservoir and the applicant has proposed three alternatives for the placement of a lower reservoir, termed “West,” “South,” and “East”. Water for the initial fill of each of the alternatives would be obtained from local water agency infrastructure via a route that would be identified during studies.

A ring dam of varying heights and a perimeter of 6,000 feet would form the project's upper reservoir. The upper reservoir would have a total storage capacity of 4,196 acre-feet and a surface area of 45.4 acres at an elevation of 7,800 feet mean sea level (msl) and a concrete lined intake/tailrace facility. The upper reservoir would be connected to one of the three proposed lower reservoir alternatives as described below.

The West lower reservoir alternative would consist of the following: (1) The upper reservoir; (2) a 43-acre lower reservoir at 5,380 feet msl created by a dam with a crest height of 250 feet, crest length of 1,435 feet, and a storage capacity of 5,347 acre-feet; (3) four 10-foot diameter, 5,890-foot-long penstocks from the concrete lined intake/tailrace facility at the upper reservoir; (4) an underground powerhouse with four 250-megawatt (MW) reversible pump-turbines; (5) an intake/tailrace facility; and (6) appurtenant facilities. The estimated annual generation of the Bison Peak Pumped Storage Project West lower reservoir alternative would be about 2,190 gigawatt-hours.

The South lower reservoir alternative proposal would consist of the following: (1) The upper reservoir; (2) a 41.8-acre lower reservoir at 4,875 feet msl created by a dam with a crest height of 260 feet, crest length of up to 1,285 feet, and a storage capacity of 4,616 acre-feet; (3) four 10-foot diameter, 9,420-foot-long penstocks from the concrete lined intake/tailrace facility at the upper reservoir to; (4) an underground powerhouse with four 250-megawatt (MW) reversible pump-turbines; (5) an intake/tailrace facility; and (6) appurtenant facilities. The estimated annual generation of the Bison Peak Pumped Storage Project South lower reservoir alternative would be about 2,190 gigawatt-hours.

The East lower reservoir alternative would consist of the following: (1) The upper reservoir; (2) a 47-acre lower reservoir at 5,800 feet msl created by a dam with a crest height of 320 feet, crest length of 1,150 feet, and a storage capacity of 5,724 acre-feet; (3) three 12-foot diameter, 5,890-foot-long penstocks from the concrete lined intake/tailrace facility at the upper reservoir to; (4) an underground powerhouse with three 250-megawatt (MW) reversible pump-turbines; (5) an intake/tailrace facility; and (6) appurtenant facilities. The estimated annual generation of the Bison Peak Pumped Storage Project East lower reservoir alternative would be about 1,642 gigawatt-hours.

Applicant Contact: Mario Lucchese, Bison Peak Pumped Storage, LLC. 9795 Cabrini Dr., Ste. 206, Burbank, CA 91504; phone: (818) 767-5552.

FERC Contact: Matt Buhyoff; phone: (202) 502-6824.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Kimberly D. Bose, Secretary, Federal Energy Regulatory Commission, 888 First Street NE., Washington, DC 20426. The first page of any filing should include docket number P-14201-001.

More information about this project, including a copy of the application, can be viewed or printed on the “eLibrary” link of Commission's Web site at http://www.ferc.gov/docs-filing/elibrary.asp. Enter the docket number (P-14201) in the docket number field to access the document. For assistance, contact FERC Online Support.

Dated: April 14, 2015.
Kimberly D. Bose,
Secretary.

[FR Doc. 2015-09840 Filed 4-27-15; 8:45 am]

BILLING CODE 6717-01-P